DEPARTMENT OF THE INTERIOR

National Park Service

[NPS-WASO-NAGPRA-25274; PPWOCRADN0-PCU00RP14.R50000]

Notice of Intent To Repatriate Cultural Items: U.S. Army Corps of Engineers, Omaha District, Omaha, NE, and State Archaeological Research Center, Rapid City, SD

AGENCY: National Park Service, Interior.

ACTION: Notice.

SUMMARY: The U.S. Army Corps of Engineers, Omaha District (Omaha District), in consultation with the appropriate Indian tribes or Native Hawaiian organizations, has determined that the cultural items listed in this notice meet the definition of unassociated funerary objects. Lineal descendants or representatives of any Indian tribe or Native Hawaiian organization not identified in this notice that wish to claim these cultural items should submit a written request to the Omaha District. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Omaha District at the address in this notice by May 14, 2018.

ADDRESSES: Ms. Sandra Barnum, U.S. Army Engineer District, Omaha, ATTN: CENWO-PM-AB, 1616 Capital Avenue, Omaha, NE 68102, telephone, (402) 995-2674, email sandra.v.barnum@usace.army.mil.

SUPPLEMENTARY INFORMATION: Notice is hereby given in accordance with the Native American Graves Protection and Repatriation Act (NAGPRA), 25 U.S.C. 3005, of the intent to repatriate cultural items under the control of the U.S. Army Corps of Engineers, Omaha District and in the physical custody of the South Dakota State Archaeological Research Center (SARC), that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1956, 148 cultural items were removed from site 39CA0006 in Buffalo County, SD. Site 39CA0006 was excavated by Dr. David A. Baerreis, University of Wisconsin, prior to the creation of the Oahe Dam Reservoir. At that time, human remains and funerary objects were removed from two features (Feature 2 and Feature 4). The excavation records show that the 148 unassociated funerary objects at SARC were removed from Feature 2 (which contained two individuals). The current location of the human remains from this feature is unknown. The cultural items were originally stored at the University of Wisconsin-Madison until they were moved to the South Dakota State Archaeological Research Center (SARC) in 2015. The cultural items are presently located at the SARC, under the managerial control of the U.S. Army Engineer District, Omaha District. The 148 unassociated funerary objects are 1 chalcedony biface knife, 103 ceramic body sherds, 19 rim sherds, 2 faunal bone awls, 1 unidentifiable faunal bone fragment, 4 faunal bone hoes, 1 faunal bone knife, 2 modified faunal bones, 1 biface flake, 1 biface knife, 3 chipped stones, 2 projectile points, 3 scrapers, 3 shaft abraders, 1 uniface flake, and 1 catlinite pipe fragment.

Site 39CA0006 is a fortified village and is believed to represent the Extended Coalescent (A.D. 1500-1675) because of the mix of European and Native elements among the objects, including brass elements and glass beads, as well as the presence of flexed primary inhumations and log coverings, which represent a burial practice of the Akaska Focus. Based on oral tradition, historic accounts, archeological evidence, geographical location, and physical anthropological interpretations, the Extended Coalescent variants are believed to be ancestral Arikara. The Arikara are represented today by the Three Affiliated Tribes of the Fort Berthold Reservation, North Dakota.

Determinations Made by the Omaha District

Officials of the Omaha District have determined that:

• Pursuant to 25 U.S.C. 3001(3)(B), the 148 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Three Affiliated Tribes of the Fort Berthold Reservation, North Dakota.

Additional Requestors and Disposition

Lineal descendants or representatives of any Indian tribe or Native Hawaiian organization not identified in this notice that wish to claim these cultural items should submit a written request with information in support of the claim to Ms. Sandra Barnum, U.S. Army Engineer District, Omaha, ATTN: CENWO-PM-AB, 1616 Capital Avenue, Omaha, NE 68102, telephone, (402) 995-2674, email sandra.v.barnum@usace.army.mil, by May 14, 2018. After that date, if no additional claimants have come forward, transfer of control of the unassociated funerary objects to the Three Affiliated Tribes of the Fort Berthold Reservation, North Dakota.

The U.S. Army Corps of Engineers, Omaha District, is responsible for notifying the Three Affiliated Tribes of the Fort Berthold Reservation, North Dakota, that this notice has been published.

Dated: March 21, 2018.
Melanie O'Brien,
Manager, National NAGPRA Program.

[FR Doc. 2018-07703 Filed 4-12-18; 8:45 am]

BILLING CODE 4312-52-P